ENVIRONMENTAL PROTECTION AGENCY

[EPA-HQ-OPP-2013-0075; FRL-9383-2]

FIFRA Scientific Advisory Panel; Change of Meeting Dates

AGENCY: Environmental Protection Agency (EPA).

ACTION: Notice.

SUMMARY: The Agency is issuing this notice to change the meeting dates of the Federal Insecticide, Fungicide, and Rodenticide Act Scientific Advisory Panel (FIFRA SAP) to consider and review the Endocrine Disruptor Screening Program (EDSP) Tier 1 Screening Assays and Battery Performance. The meeting was originally scheduled for May 21-24, 2013. The new meeting dates are shown below.

DATES: The meeting will be held on May 21-23, 2013, from approximately 9 a.m. to 5 p.m.

ADDRESSES: The meeting will be held at the Environmental Protection Agency, Conference Center, Lobby Level, One Potomac Yard (South Bldg.), 2777 S. Crystal Dr., Arlington, VA 22202.

FOR FURTHER INFORMATION CONTACT: Fred Jenkins, Designated Federal Official (DFO), Office of Science Coordination and Policy (7201M), Environmental Protection Agency, 1200 Pennsylvania Ave. NW., Washington, DC 20460-0001; telephone number: (202) 564-3327; fax number: (202) 564-8382; email address: jenkins.fred@epa.gov.

SUPPLEMENTARY INFORMATION: All other information provided in the February 22, 2013, Federal Register notice remains unchanged (78 FR 12311).

List of Subjects

Environmental protection, Pesticides, and pests Endocrine disruptors.

Dated: April 2, 2013.
Steven M. Knott,
Acting Director, Office of Science Coordination and Policy.

[FR Doc. 2013-08254 Filed 4-10-13; 8:45 am]

BILLING CODE 6560-50-P